DEPARTMENT OF THE INTERIOR

Bureau of Land Management

[AZ-P040-2016-1711-PH-1000-241A]

Notice of Enforcement of Temporary Court-Ordered Closure To Target Shooting on Public Lands in the Sonoran Desert National Monument, Arizona

AGENCY: Bureau of Land Management, Interior.

ACTION: Notice of Temporary Court-Ordered Closure.

SUMMARY: Notice is hereby given that enforcement of a temporary court-ordered closure to target shooting is in effect on public lands within the Sonoran Desert National Monument (SDNM), administered by the Lower Sonoran Field Office, Bureau of Land Management (BLM).

DATES: Implementation of the temporary court-ordered closure within the described area commenced on September 15, 2015, and will remain in effect and enforced until a land use planning decision(s) regarding recreational target shooting for the SDNM is completed.

FOR FURTHER INFORMATION CONTACT: David Scarbrough, Manager; SDNM; Bureau of Land Management, Phoenix District Office, 21605 North 7th Avenue, Phoenix, Arizona 85027; 623-580-5500.

SUPPLEMENTARY INFORMATION: This temporary closure affects public lands within the SDNM, Maricopa County, Arizona. A map of this closure can be viewed online at http://www.blm.gov/style/medialib/blm/az/NLCS/SD_NM/maps.Par.40841.File.dat/AZ_SonoranDesert_NM.pdf.

The temporary closure is the result of a Federal Court Order. On March 27, 2015, the Court issued a ruling in the case of National Trust for Historic Preservation et al v. Raymond Suazo, BLM, and Department of the Interior (docket #CV-13-01973-PHX-DGC). The Court found that the BLM violated the Federal Land Policy and Management Act (FLPMA) and National Environmental Policy Act (NEPA) when making its decision to designate the SDNM as open to recreational target shooting.

The Court vacated portions of the Record of Decision, Resource Management Plan, and Final Environmental Impact Statement (EIS) that permit recreational target shooting throughout the SDNM and remanded the decision to BLM for reconsideration. The Court also required the BLM to ensure the Final EIS's analysis of mitigation measures and cumulative impacts are consistent with the order.

On July 17, 2015, the Court granted the plaintiffs' request for injunctive relief and ordered the BLM to close approximately 10,599 acres (2.1%) of the SDNM to recreational target shooting pending compliance with the Court's March 27, 2015, Order. Closure of this area is expected to disperse shooters to other areas and eliminate potential impacts to SDNM resources and monument objects until the land use plan amendment to address recreational target shooting on the SDNM is completed. The July 17, 2015, Order also provided a deadline of September 15, 2015, to implement the closure, and a deadline of September 30, 2017, to address the planning shortfalls discussed in the Court's March 27, 2015, Order.

This temporary closure affects the following public lands within the SDNM, Maricopa County, Arizona:

Gila and Salt River Meridian, Arizona

T. 3 S., R. 1 W.,

Sec. 18, lot 4;

Sec. 19, lots 1 thru 3, S½NE¼, SW¼NW¼, NE¼SW¼;

Sec. 20, W½SW¼, and SE¼SW¼;

Sec. 28, W½SW¼;

Sec. 29, NW¼NE¼, S½NE¼, N½NW¼, SE¼NW¼, N½SE¼, and SE¼SE¼;

Sec. 30, NE¼NE¼;

Sec. 32, E½NE¼ and E½SE¼;

Sec. 33, W½NW¼ and S½SE¼;

Sec. 34, S½SW¼.

T. 4 S., R. 1 W.,

Sec. 2, SW¼NW¼ and SW¼;

Sec. 3, lots 1 thru 4, S½NE¼, and NE¼SE¼;

Sec. 4, lots 1 thru 4;

Sec. 5, lot 1;

Sec. 11, NE¼, NE¼NW¼, and NE¼SE¼;

Sec. 12, W½NW¼ and SW¼;

Sec. 13, N½NE¼ and SE¼NE¼.

T. 2 S., R. 2 W.,

Sec. 31, lots 3 and 4, SE¼SW¼, and SW¼SE¼.

T. 3 S., R. 2 W.,

Sec. 5, lot 2, SW¼NE¼, S½NW¼, and SE¼;

Sec. 6, lots 1 thru 7, S½NE¼, SE¼NW¼, E½SW¼, and SE¼;

Sec. 8, lots 1 thru 6;

Sec. 9, lots 1, 2, 4, and 8, NE¼, N½NW¼, SE¼NW¼, and NE¼SE¼;

Sec. 10, lot 1, SW¼NE¼, NW¼NW¼, S½NW¼, N½SW¼, SE¼SW¼, and SE¼;

Sec. 11, NW¼SW¼, SW¼SW¼, SE¼SW¼, and SW¼SE¼;

Sec. 13, SW¼NE¼, NW¼NW¼, S½NW¼, SW¼, and SE¼;

Sec. 14, lots 1, 3, and 4, NE¼, NW¼, and SE¼;

Sec. 15, lots 1, 2, 5, 6, 8, and 10, N½NE¼, and SE¼NE¼;

Sec. 16, lot 4;

Sec. 17, lots 2 and 7;

Sec. 20, lot 4;

Sec. 21, lot 3;

Sec. 23, lots 1, 2, and 6, and NE¼NE¼;

Sec. 24, lots 1, 2, 3, and 5, NE¼, and NW¼.

T. 2 S., R. 3 W.,

Sec. 33, N½NE¼;

Sec. 34, NE¼, N½NW¼, and SE¼;

Sec. 35;

Sec. 36, SW¼NE¼, S½NW¼, SW¼, and SE¼.

T. 3 S., R. 3 W.,

Sec. 1;

Sec. 2;

Sec. 3, lots 1 and 2, S½NE¼, SE¼NW¼, E½SW¼, and SE¼;

Sec. 9, SE¼SE¼;

Sec. 10, lots 2, 3, 4, 7, and 8, E½NW¼, and SW¼;

Sec. 15, lots 2, 3, 6 and 7, NW¼, and SW¼;

Sec. 16, E½NE¼, and E½SE¼;

Sec. 19, SE¼SW¼, and S½SE¼;

Sec. 20, S½SW¼, and S½SE¼;

Sec. 21, lot 1, NE¼NE¼, S½NE¼, SW¼, N½SE¼, and SW¼SE¼;

Sec. 22, lots 2, 3, 7, 8, and 10, NW¼, and N½SW¼;

Sec. 23, lot 4;

Sec. 26, lot 4;

Sec. 28, lots 1, 3, 5, and 7;

Sec. 29, lots 1, 2, 3, and 5;

Sec. 30, lots 1, 5, 7, 9, and 10;

Sec. 32, lots 2, 6, and 9;

Sec. 33, lots 1, 4, 5, and 6.

T. 3 S., R. 4 W.,

Sec. 25, lots 1 thru 5, 12, 17, 19, 21, and 24;

Sec. 26, lots 1, 8, and 9.

The BLM has now posted closure signs at main entry points to the affected area and at approximately 1/10-mile intervals along the closure boundary and road access points. In addition to the signs, a map showing the extent of the closure and a notice from the BLM advising the public of the Court's Order has also been posted at these locations and in the Phoenix District Office. Maps of the affected area and other documents associated with this closure are available at the BLM Phoenix District Office located at 21605 North 7th Avenue, Phoenix, Arizona 85027.

Under the authority of Section 303(a) of the FLPMA of 1976 (43 U.S.C. 1733(a)), 43 CFR 8360-7, and 43 CFR 8364.1, the BLM will enforce the following rule within the SDNM: You must not target shoot in the closed area. Any person who violates the above rule and/or restriction may be tried before a United States Magistrate and fined no more than $1,000, imprisoned for no more than 12 months, or both. Such violations may also be subject to the enhanced fines provided for by 18 U.S.C. 3571.

Authority: 43 CFR 8364.1.

Edward J. Kender,
Field Manager.

[FR Doc. 2016-01186 Filed 1-20-16; 8:45 am]

BILLING CODE 4310-32-P